FEDERAL MARITIME COMMISSION

Ocean Transportation Intermediary License Applicants

Notice is hereby given that the following applicants have filed with the Federal Maritime Commission an application for license as a Non-Vessel-Operating Common Carrier and Ocean Freight Forwarder-Ocean Transportation Intermediary pursuant to section 19 of the Shipping Act of 1984 as amended (46 U.S.C. app. chapter 409 and 46 CFR 515).

Persons knowing of any reason why the following applicants should not receive a license are requested to contact the Office of Transportation Intermediaries, Federal Maritime Commission,Washington, DC 20573.

Non-Vessel-Operating Common Carrier Ocean Transportation Intermediary Applicants

AJC Logistics, LLC dba Eagle Logistics Systems, 5188 Roswell Road, NW., Atlanta, GA 30342. Officers: Christopher Swartz, Vice President, (Qualifying Individual), Gerald L. Alliston, President.

Ben-New Shipping, Inc., 1383 Kale Drive, Lithonia, GA 30058. Officers: Dionne Newell, Director, (Qualifying Individual), Desrine Bennett, Director.

Marine Express Shipping, Inc., 2380 Massachusetts Avenue, Cambridge, MA 02140. Officer: Petrus Alesy, President, (Qualifying Individual).

Oriental Camden Inc. dba Embarque Carden, 2011 River Avenue, Camden, NJ 08105. Officers: Elpidio Alcantara, President, (Qualifying Individual), Cristiana Alcantara, Vice President.

A1 Courier, Corp., 8236 NW. 68th Street, Miami, FL 33166. Officers: Claudio Varanese, President, (Qualifying Individual), Geraldine Arevalo, Vice President.

El Siglo Shipping Corp., 1306 Morrison Avenue, Bronx, NY 10472. Officer: Luis Manuel Clander-Evans, President, (Qualifying Individual).

Pacific Road Logistics, Inc., 520 E. Carson Plaza Ct., Suite 204, Carson, CA 90746. Officers: Brendan Sheen, Treasurer, (Qualifying Individual), Yoon Yeon Jung, President.

Findlay International, Inc. dba Findlay International, 326 South Fulton Avenue, Mount Vernon, NY 10553. Officers: Andrew C. Churchill, Vice President, (Qualifying Individual), Gregory J. Mouracade, President.

Non-Vessel-Operating Common Carrier and Ocean Freight Forwarder Transportation Intermediary Applicants

Austoromar Logistics USA, LLC, 1325 Mittel Blvd., Wood Dale, IL 60191. Officer: Tadeusz Andrzej Krafft, Manager, (Qualifying Individual).

KP Freight, LLC, 8399 NW 66 Street, Suite 3, Miami, FL 33166. Officer: John F. Mylott, President, (Qualifying Individual).

Pak Mail Centers of America, Inc., dba Platinum Worldwide Logistics, 7173 S. Havana Street, Suite 600, Centennial, CO 80112. Officers: Justin Andres, Vice President, (Qualifying Individual), P. Evan Lasky, CEO.

Ocean Freight Forwarder-Ocean Transportation Intermediary Applicants

KOC Enterprise Inc., 111 Lakeview Drive, Old Tappan, NJ 07675. Officer: Eock S. Oh, President, (Qualifying Individual).

World Applicances, Inc., 2822 Juniper Street, Fairfax, VA 22031. Officer: Max Llaneza, President, (Qualifying Individual).

Ocean Air Cargo and Brokerage Corp. dba Ocean Air Cargo, 16 Corning Avenue, Suite 154, Milpitas, CA 95035. Officers: Blas De Leon Caliva, General Manager, (Qualifying Individual), Antonio Alve, Director.

Dated: October 20, 2006.
Karen V. Gregory,
Assistant Secretary.

[FR Doc. E6-17891 Filed 10-24-06; 8:45 am]

BILLING CODE 6730-01-P